DEPARTMENT OF COMMERCE

National Oceanic and Atmospheric Administration

[I.D. 041306A]

Taking of Marine Mammals Incidental to Specified Activities; On-ice Seismic Operations in the Beaufort Sea

AGENCY: National Marine Fisheries Service (NMFS), National Oceanic and Atmospheric Administration (NOAA), Commerce.

ACTION: Notice of issuance of an incidental harassment authorization.

SUMMARY: In accordance with provisions of the Marine Mammal Protection Act (MMPA) as amended, notification is hereby given that an Incidental Harassment Authorization (IHA) to take small numbers of marine mammals, by harassment, incidental to conducting on-ice vibroseis seismic operations in the Harrison Bay portion of the western U.S. Beaufort Sea has been issued to Kuukpik Veritas DGC (Kuukpik) for a period of 1 year.

DATES: Effective from April 30, 2006 through April 29, 2007.

ADDRESSES: The authorization and application containing a list of the references used in this document may be obtained by writing to this address or by telephoning the contact listed here. The application is also available at: http://www.nmfs.noaa.gov/pr/permits/incidental.htm.

FOR FURTHER INFORMATION CONTACT: Shane Guan, Office of Protected Resources, NMFS, (301) 713-2289, ext 137 or Brad Smith, Alaska Region, NMFS, (907) 271-5006.

SUPPLEMENTARY INFORMATION:

Background

Sections 101(a)(5)(A) and (D) of the MMPA (16 U.S.C. 1361 et seq.) direct the Secretary of Commerce to allow, upon request, the incidental, but not intentional, taking of marine mammals by U.S. citizens who engage in a specified activity (other than commercial fishing) within a specified geographical region if certain findings are made and either regulations are issued or, if the taking is limited to harassment, a notice of a proposed authorization is provided to the public for review.

Permission may be granted if NMFS finds that the taking will have a negligible impact on the species or stock(s), will not have an unmitigable adverse impact on the availability of the species or stock(s) for subsistence uses, and that the permissible methods of taking and requirements pertaining to the mitigation, monitoring and reporting of such takings are set forth. NMFS has defined “negligible impact” in 50 CFR 216.103 as ”...an impact resulting from the specified activity that cannot be reasonably expected to, and is not reasonably likely to, adversely affect the species or stock through effects on annual rates of recruitment or survival.”

Section 101(a)(5)(D) of the MMPA established an expedited process by which citizens of the United States can apply for an authorization to incidentally take small numbers of marine mammals by harassment. Except for certain categories of activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Section 101(a)(5)(D) establishes a 45-day time limit for NMFS review of an application followed by a 30-day public notice and comment period on any proposed authorizations for the incidental harassment of marine mammals. Within 45 days of the close of the comment period, NMFS must either issue or deny issuance of the authorization.

Summary of Request

On October 24, 2005, NMFS received an application from ASRC Energy Services, Lynx Enterprises, Inc. (AES Lynx) on behalf of Kuukpik for the taking, by harassment, of two species of marine mammals incidental to conducting an on-ice seismic survey program. The seismic operations will be conducted in the Harrison Bay portion of the western U.S. Beaufort Sea. The proposed survey would be conducted from through May 20, 2006. The operation will consist of laying seismic cables with geophones on the frozen sea ice, employing the vibroseis method of energy (sound source) production, and recording the seismic signals. Water depths in the majority of the planned survey area are less than 3 m (9.8 ft).

The purpose of the project is to gather information about the subsurface of the earth by measuring acoustic waves, which are generated on or near the surface. The acoustic waves reflect at boundaries in the earth that are characterized by acoustic impedance contrasts.

Description of the Activity

The seismic surveys use the “reflection” method of data acquisition. Seismic exploration uses a controlled energy source to generate acoustic waves that travel through the earth, including sea ice and water, as well as sub-sea geologic formations, and then uses ground sensors to record the reflected energy transmitted back to the surface. When acoustic energy is generated, compression and shear waves form and travel in and on the earth. The compression and shear waves are affected by the geological formations of the earth as they travel in it and may be reflected, refracted, diffracted or transmitted when they reach a boundary represented by an acoustic impedance contrast. Vibroseis seismic operations use large trucks with vibrators that systematically put variable frequency energy into the earth. At least 1.2 m (4 ft) of sea ice is required to support the various equipment and vehicles used to transport seismic equipment offshore for exploration activities. These ice conditions generally exist from 1 January until 31 May in the Beaufort Sea. Several vehicles are normally associated with a typical vibroseis operation. One or two vehicles with survey crews move ahead of the operation and mark the energy input points. Crews with wheeled vehicles often require trail clearance with bulldozers for adequate access to and within the site. Crews with tracked vehicles are typically limited by heavy snow cover and may require trail clearance beforehand.

With the vibroseis technique, activity on the surveyed seismic line begins with the placement of sensors. All sensors are connected to the recording vehicle by multi-pair cable sections. The vibrators move to the beginning of the line and begin recording data. The vibrators begin vibrating in synchrony via a simultaneous radio signal to all vehicles. In a typical survey, each vibrator will vibrate four times at each location. The entire formation of vibrators subsequently moves forward to the next energy input point (e.g. 67 m, or 220 ft, in most applications) and repeats the process. In a typical 16- to 18-hour day, a surveys will complete 6-16 km (4 to 10 linear miles) in 2-dimensional seismic operations and 24 to 64 km (15 to 40 linear miles) in a 3-dimensional seismic operation.

Comments and Responses

A notice of receipt and request for 30-day public comment on the application and proposed authorization was published on February 27, 2006 (71 FR 9782). During the 30-day public comment period, NMFS received the following comments from the Marine Mammal Commission (Commission).

Comment 1: As noted in the Commission's previous letters on similar requests, the Commission believes that the effects of the activities proposed, by themselves, are likely to be negligible. However, the Commission continues to be concerned that the cumulative impacts of (1) many such activities in the Beaufort Sea (see National Academy of Sciences report entitled Cumulative Environmental Effects of Oil and Gas Activities on Alaska's North Slope), and (2) predicted climate change in this region may, at some point, have more than negligible impacts on marine mammal populations.

Response: NMFS is unaware of any other wintertime seismic operations in the U.S. Beaufort Sea. The only other potential ice-road construction activity is by Northstar operations near Prudhoe Bay (70 FR 17066, April 4, 2005), which is about 100 miles (1,610 km) from the proposed action in the Coleville Delta/Harrison Bay region of the Beaufort Sea. No ice-roads have been constructed in recent years due to use of hovercraft for transportation. As for the cumulative impacts:

(1) The report Cumulative Environmental Effects of Oil and Gas Activities on Alaska's North Slope (Report) released by the National Academy of Science lists industrial noise and oil spill as major impacts to marine mammals from oil and gas development. So far the prevalent human induced mortalities on marine mammals (bowhead whales, seals, and polar bears) in this region are from subsistent hunting. The Report further predicts that “if climate warming and substantial oil spills did not occur, cumulative effects on ringed seals and polar bears in the next 25 years would likely be minor and not accumulate”. In its findings, the Report concludes that “industrial activity in marine waters of the Beaufort Sea has been limited and sporadic and likely has not caused serious accumulating effects on ringed seals or polar bears”; and “careful mitigation can help to reduce the effects of North Slope oil and gas development and their accumulation, especially if there is no major oil spill”. The proposed activity would have no potential for oil spill, neither would it produce noise that is high enough to cause any harm to marine mammals.

(2) Although climate warming should be a concern for the sustainability of the entire ecosystem in the Alaska's North Slope region, it is irrelevant to the proposed action since the on-ice seismic activity would neither contribute nor reduce the pace of global warming. The melting of shore-fast ice by itself would only reduce the on-ice activity as it would be unsafe to employ vibroseis survey techniques. At least 4 ft (1.2 m) of ice thickness is required to support the various equipment and vehicles used to transport seismic equipment offshore for exploration activities.

Comment 2: The Commission questions whether arctic cod, which are a primary prey of ringed seals, could be adversely affected by vibroseis surveys.

Response: Most of the on-ice seismic survey would be conducted in areas where water depth is under 3 m (9.8 ft) with the shore-fast ice at 1.2 m (4 ft) thick. This is not preferred habitat for the arctic cod, which is commonly found at the surface of the sea close to shore among ice floes.

Comment 3: The Commission reiterates its recommendation that monitoring programs for the proposed activities be expanded to collect more general data on changes in density and abundance of potentially affected marine mammals, reproductive rates, prey availability, foraging patterns, distribution, and contaminant levels where oil and gas exploration, development, and production occur. The Commission considers such information essential for ensuring that subtle changes occurring over short periods (i.e., seasonally or annually) have negligible cumulative effects over longer periods.

Response: Under section 101(a)(5)(D) of the MMPA, NMFS must prescribe a monitoring program that the applicant must implement to provide information on marine mammal takings and impacts on affected species and stocks. As provided in the Federal Register notice of receipt of this IHA application (71 FR 9782, February 27, 2006), seal density and structure survey would be conducted before selection of transit routes, and a second seal structure survey would be performed shortly after the end of the seismic surveys. A detailed description of the survey is provided in that Federal Register notice (71 FR 9782, February 27, 2006) and is not repeated here. However, an expanded program to collect information on prey availability, foraging patterns, and contaminant levels of marine mammals is beyond the scope of the proposed action.

Comment 4: The Commission believes that the use of trained dogs is the only reliable method for locating ringed seal lairs and other structures. Thus, if trained dogs are not available for the initial survey, the Commission does not believe that the NMFS should accept monitoring by humans as an alternative until it has been demonstrated that such monitoring is as effective as that carried out using dogs.

Response: While NMFS believes the use of trained dogs to locate ringed seal lairs during on-ice surveys conducted in areas with water depth less than 3 m (9.8 ft) is the best method to detect ringed seals in winter, NMFS also believes that the use of experienced subsistence hunters should be an alternative only if no dogs are available. In such cases, NMFS requires the applicant to provide certifications from owners of trained dogs stating that no dogs are available for the purposed surveys during the survey days. The applicant points out it has certain concerns over the required dogs, including the biasing of locating abandoned versus active holes, the potential of attracting polar bears, potential takes of seals by dogs, and the opposition from the native groups.

Comment 5: The Commission also notes that the probability of physical damage to seal lairs and holes or individual seals is related to the total area affected, and it suggests that vehicles stay on the actual shot lines to the maximum extent possible.

Response:The majority of the areas (> 95 percent) that would be subject to on-ice seismic survey would be under 3 m (9.8 ft) deep, therefore are not ringed seal habitat. Nevertheless, NMFS is requiring the applicant to have survey vehicles stay on the actual shot lines to the maximum extent possible.

Comment 6: The Commission further recommends that the authorization specify that operations be suspended if a mortality or serious injury of a seal occurs. The suspension would provide an opportunity for NMFS to determine whether steps can be taken to avoid further injuries or mortalities and whether an incidental take authorization is needed under section 101(a)(5)(A) of the MMPA.

Response: NMFS agrees, and the IHA condition will specify that operations be suspended if a mortality or serious injury of a seal is detected.

Comment 7: The Commission noted that the application indicates that a brief portion of the proposed project may be conducted over open water if on-ice studies are inadequate and further resolution is needed. Such open-water work would involve the use of small airgun arrays. If it has not already done so, the Commission asks NMFS to request additional information from the applicant on this portion of the proposed activities (e.g., sizes of airguns, zones of influence, etc.).

Response: The application NMFS received on February 7, 2006, indicates that open-water surveys would only be necessary if on-ice seismic surveys indicate that there may be a dead zone from where inadequate or jumbled seismic signals were recorded. Under such circumstances when open-water seismic surveys become necessary, the applicant will be required to submit a new IHA application for open-water surveys providing detailed information on this proposed activity. Open-water seismic surveys are not authorized under this IHA.

Comment 8: The application states that the applicant will seek a Letter of Authorization (LOA) from U.S. Fish and Wildlife Service (USFWS) for intentional take of polar bears. NMFS should advise the applicant that it will need to obtain appropriate authorizations from FWS for any taking of polar bears.

Response: Both intentional and unintentional, incidental take of marine mammals is prohibited under the MMPA, unless the take has been authorized by the appropriate agency. NMFS encourages the applicant to contact the FWS regarding appropriate authorizations for any intentional or unintentional, incidental taking of polar bears that may occur as a result of their activities.

Description of Habitat, Marine Mammals Affected by the Activity, and the Impact on Affected Marine Mammals

A detailed description of the Beaufort Sea ecosystem can be found in several documents (Corps of Engineers, 1999; NMFS, 1999; Minerals Management Service (MMS), 1992, 1996, 2001). A more detailed description of the seismic survey activities and affected marine mammals can be found in the AES Lynx application (see ADDRESSES). Four marine mammal species are known to occur within the proposed study area: ringed seal (Phoca hispida), bearded seal (Erignathus barbatus), spotted seal (Phoca largha), and polar bear (Ursus maritimus). The applicant reached an arrangement with the USFWS for the intentional taking of polar bears because USFWS has management authority for this species. Spotted seals are not known winter users of the project area, therefore, no incidental take is expected for this species. A more detailed description of ringed and bearded seals can be found in the proposed IHA notice (71 FR 9782, February 27, 2006). That information is not repeated here.

Mitigation and Monitoring

The following mitigation measures will be implemented for the subject surveys. All activities will be conducted as far as practicable from any observed ringed or bearded seal lair and no energy source will be placed over a ringed or bearded seal lair. Only vibrator-type energy-source equipment shown to have similar or lesser effects than proposed will be used. Kuukpik will provide training for the seismic crews so they can recognize potential areas of ringed seal lairs and adjust the seismic operations accordingly.

Ringed seal pupping occurs in ice lairs from late March to mid-to-late April (Smith and Hammill, 1981). Prior to commencing on-ice seismic surveys in areas where water depth is less than 3 m (9.8 ft) in mid-March, trained dogs will be used to screen for lairs along the planned on-ice seismic transmission routes. In case that no dogs are available for the scheduled survey, experienced Inupiat subsistence hunters will be hired to look for seal lairs. The seal structure survey will be conducted before selection of precise transit routes to ensure that seals, particularly pups, are not injured by equipment. The locations of all seal structures will be recorded by Global Positioning System (GPS), staked, and flagged with surveyor's tape. Surveys will be conducted 150 m (492 ft) to each side of the transit routes. Actual width of route may vary depending on wind speed and direction, which strongly influence the efficiency and effectiveness of dogs at locating seal structures. Few, if any, seals inhabit ice-covered waters shallower than 3 m (9.8 ft) due to water freezing to the bottom or poor prey availability caused by the limited amount of ice-free water.

Kuukpik will also continue to work with NMFS, other Federal agencies, the State of Alaska, Native communities of Barrow and Nuiqsut, and the Inupiat Community of the Arctic Slope (ICAS) to assess measures to further minimize any impact from seismic activity. A Plan of Cooperation was developed between Kuukpik and Nuiqsut to ensure that seismic activities do not interfere with subsistence harvest of ringed or bearded seals.

The level of impacts, while anticipated to be negligible, will be assessed by conducting a second seal structure survey shortly after the end of the seismic surveys. A single on-ice survey will be conducted by biologists on snow machines using a GPS to relocate and determine the status of seal structures located during the initial survey. The status (active vs. inactive) of each structure will be determined to assess the level of incidental take by seismic operations. The number of active seal structures abandoned between the initial survey and the final survey will be the basis for enumerating possible harassment takes. If dogs are not available for the initial survey, takings will be estimated by using observed densities of seals on ice reported by Moulton et al. (2001) for the Northstar development, which is approximately 24 nm (46 km) from the eastern edge of the proposed activity area.

Seal structures take estimates will be determined for the portion of the activity area exposed to seismic surveys in water depths of 3 m (9.8 ft) or less. Take for this area will be estimated by using the observed density (13/100 km²) reported by Moulton et al. (2001) for water depths between 0 to 3 m (0 to 9.8 ft) in the Northstar project area, which is the only source of a density estimate stratified by water depth for the Beaufort Sea. This will be an overestimation requiring a substantial downward adjustment to better reflect the likely take of seals using lairs, since few if any of the structures in these water depths would be used for birthing, and the Moulton et al. (2001) estimate includes all seals.

Reporting

An annual report must be submitted to NMFS within 90 days of completing the year's activities.

Endangered Species Act (ESA)

NMFS has determined that no species listed as threatened or endangered under the ESA will be affected by issuing an incidental harassment authorization under section 101(a)(5)(D) of the MMPA to Kuukpik for this on-ice seismic survey.

National Environmental Policy Act (NEPA)

The information provided in Environmental Assessments (EAs) prepared in 1993 and 1998 for winter seismic activities led NOAA to conclude that implementation of either the preferred alternative or other alternatives identified in the EA would not have a significant impact on the human environment. Therefore, an Environmental Impact Statement was not prepared. The proposed action discussed in this document is not substantially different from the 1993 and 1998 actions, and a reference search has indicated that no significant new scientific information or analyses have been developed in the past several years that would warrant new NEPA documentation.

Determinations

The anticipated impact of winter seismic activities on the species or stock of ringed and bearded seals is expected to be negligible (and limited to the taking of small numbers) for the following reasons:

(1) The activity area supports a small proportion (<1 percent) of the ringed and bearded seal populations in the Beaufort Sea.

(2) Most of the winter-run seismic lines will be on ice over shallow water where ringed seals are absent or present in very low abundance. Most of the activity area is near shore and/or in water less than 3 m (9.8 ft) deep, which is generally considered poor seal habitat. Moulton et al. (2001) reported that only 6 percent of 660 ringed seals observed on ice in the Northstar project area were in water between 0 to 3 m (0 to 9.8 ft) deep.

(3) For reasons of safety and because of normal operational constraints, seismic operators will avoid moderate and large pressure ridges, where seal and pupping lairs are likely to be most numerous.

(4) The sounds from energy produced by vibrators used during on-ice seismic programs typically are at frequencies well below those used by ringed seals to communicate (1,000 Hz). Thus, ringed seal hearing is not likely to be very good at those frequencies and seismic sounds are not likely to have strong masking effects on ringed seal calls. This effect is further moderated by the quiet intervals between seismic energy transmissions.

(5) There has been no major displacement of seals away from on-ice seismic operations (Frost and Lowry, 1988). Further confirmation of this lack of major response to industrial activity is illustrated by the fact that there has been no major displacement of seals near the Northstar Project. Studies at Northstar have shown a continued presence of ringed seals throughout winter and creation of new seal structures (Williams et al., 2001).

(6) Although seals may abandon structures near seismic activity, studies have not demonstrated a cause and effect relationship between abandonment and seismic activity or biologically significant impact on ringed seals. Studies by Williams et al. (2001), Kelley et al. (1986, 1988) and Kelly and Quakenbush (1990) have shown that abandonment of holes and lairs and establishment or re-occupancy of new ones is an ongoing natural occurrence, with or without human presence. Link et al. (1999) compared ringed seal densities between areas with and without vibroseis activity and found densities were highly variable within each area and inconsistent between areas (densities were lower for 5 days, equal for 1 day, and higher for 1 day in vibroseis area), suggesting other factors beyond the seismic activity likely influenced seal use patterns. Consequently, a wide variety of natural factors influence patterns of seal use including time of day, weather, season, ice deformation, ice thickness, accumulation of snow, food availability and predators as well as ring seal behavior and population dynamics.

In winter, bearded seals are restricted to cracks, broken ice, and other openings in the ice. On-ice seismic operations avoid those areas for safety reasons. Therefore, any exposure of bearded seals to on-ice seismic operations would be limited to distant and transient exposure. Bearded seals exposed to a distant on-ice seismic operation might dive into the water. Consequently, no significant effects on individual bearded seals or their population are expected, and the number of individuals that might be temporarily disturbed would be very low.

As a result, Kuukpik and NMFS believe the effects of on-ice seismic are expected to be limited to short-term and localized behavioral changes involving relatively small numbers of seals. NMFS has determined, based on information in the application and supporting documents, that these changes in behavior will have no more than a negligible impact on the affected species or stocks of ringed and bearded seals. Also, the potential effects of the on-ice seismic operations during 2006 are unlikely to result in more than small numbers of seals being affected and will not have an unmitigable adverse impact on subsistence uses of these two species.

Authorization

NMFS has issued an IHA to Kuukpik for conducting seismic surveys from in the Harrison Bay area of the western U.S. Beaufort Sea, provided the previously mentioned mitigation, monitoring, and reporting requirements are incorporated.

Dated: April 28, 2006.
Donna Wieting,
Deputy Director, Office of Protected Resources, National Marine Fisheries Service.

[FR Doc. E6-6768 Filed 5-3-06; 8:45 am]

BILLING CODE 3510-22-S